FEDERAL COMMUNICATIONS COMMISSION

[FR ID 44726]

Ending 9-1-1 Fee Diversion Now Strike Force; Meeting

AGENCY: Federal Communications Commission.

ACTION: Notice.

SUMMARY: In accordance with the Federal Advisory Committee Act, the Federal Communications Commission (Commission) announces and provides a preliminary agenda for the third meeting of the “Ending 9-1-1 Fee Diversion Now Strike Force” (911 Strike Force).

DATES: Friday, September 17, 2021, beginning at 10 a.m. EDT.

ADDRESSES: Federal Communications Commission, 45 L Street NE, Washington, DC 20554.

FOR FURTHER INFORMATION CONTACT: John A. Evanoff, Designated Federal Officer (DFO), Federal Communications Commission, Public Safety and Homeland Security Bureau, (202) 418-0848; or Jill Coogan, Deputy Designated Federal Officer (DDFO), Federal Communications Commission, Public Safety and Homeland Security Bureau, (202) 418-1499; or email: 911StrikeForce@fcc.gov.

SUPPLEMENTARY INFORMATION: Proposed Agenda: The agenda for the September 17, 2021 meeting will include presentations summarizing the recommendations and report of the 911 Strike Force and its working groups, and voting by the 911 Strike Force on the recommendations and report. This agenda may be modified at the discretion of the 911 Strike Force Chair and the DFO.

The September 17, 2021 meeting will be held in a wholly electronic format to accommodate continuing public health precautions related to the coronavirus (COVID-19) pandemic. The September 17, 2021 meeting will be open to members of the general public via live broadcast over the internet from the FCC Live web page at http://www.fcc.gov/live/. The public may also follow the meeting on Twitter@fcc or via the Commission's Facebook page at www.facebook.com/ fcc. Members of the public may submit any questions that arise during the meeting to livequestions@fcc.gov.

Open captioning will be provided for the live stream. Other reasonable accommodations for people with disabilities are available upon request. To request an accommodation, or for materials in accessible formats for people with disabilities (Braille, large print, electronic files, audio format), send an email to fcc504@fcc.gov or call the Consumer and Governmental Affairs Bureau at (202) 418-0530 (voice), (202) 418-0432 (TTY). Such requests should include a detailed description of the accommodation needed. In addition, please include a way for the Commission to contact the requester if more information is needed to fulfill the request. Please allow at least five days' advance notice; last-minute requests will be accepted but may not be possible to accommodate.

Federal Communications Commission.
David Furth,
Deputy Bureau Chief, Public Safety and Homeland Security Bureau.

[FR Doc. 2021-18529 Filed 8-26-21; 8:45 am]

BILLING CODE 6712-01-P